DEPARTMENT OF LABOR

Office of the Secretary

Women in Apprenticeship and Nontraditional Occupations DOL FY 2000 Budget, Training and Employment Services (TES) 1600174

AGENCY: Women's Bureau, Department of Labor.

ACTION: Notice of Availability of Funds and Solicitation for Grant Applications (SGA 00-03).

SUMMARY: All information required to submit a proposal is contained in this announcement. Applicants for grant funds should read this notice in its entirety and respond as directed. Grant proposals that are not completed as directed will be judged nonresponsive and will not be evaluated.

The Women's Bureau (WB), U.S. Department of Labor (DOL) announces the Solicitation for Grant Applications (SGA) authorized under the Women in Apprenticeship and Nontraditional Occupations (WANTO) Act of 1992. The major provisions of the WANTO legislation are to “assist business in providing women with opportunities in apprenticeship and nontraditional occupations.” The WANTO grant program funds Community-Based Organizations (CBOs) to provide technical assistance (TA) to employers and labor unions (E/LUs) that will “enable business to meet the challenge of Workforce 2000.” The challenge is greater than the shortage of skilled workers in construction trades, and it is especially acute in recruiting and retaining workers with technology skills in nonconstruction industries with increasing inputs of technological innovation that interfaces with computer-based information technology, e.g., telecommunications, utilities, manufacturing, transportation, and services.

The Women's Bureau co-administers WANTO with the DOL's Bureau of Apprenticeship and Training (BAT), with the WB having responsibility for implementing the grant process. Congress first appropriated funds for WANTO in Fiscal Year (FY) 1994, under JTPA (Title IV-D). JTPA expires on June 30, 2000, and will be superseded by the Workforce Investment Act (WIA) on July 1, 2000. WANTO (FY) 2000 is funded by DOL (FY) 2000 Budget: Training and Employment Services (TES) 1600174.

The Department of Labor will competitively award grants to CBOs who represent the best from the segment of CBOs actively involved in pre-apprenticeship and skills training, advocacy, technical assistance to employers/labor unions, mentorship, and other support services to increase the participation of women in apprenticeship and skilled, high-pay nontraditional occupations (A/NTO). These CBOs must provide TA to E/LUs to prepare them to successfully recruit, train, and retain women in apprenticeable and other skilled high-pay nontraditional occupations. In addition, TA must include strategic planning with E/LUs for identifying sources of support services—child care, transportation, and necessary transitional costs—to ensure the successful transition of women to apprenticeship and other skilled high-pay workplaces. As a result, the Department expects employers and labor unions “to expand the employment and self-sufficiency options of women.”

Further, the Department will give priority consideration to proposals in the following order: (1) CBOs in the 32 States previously unserved by WANTO, (2) CBOs working to employ women with physical and/or cognitive disabilities in skilled high-pay jobs, (3) CBOs with diverse race-ethnic backgrounds, and (4) CBOs with programs to provide TA to E/LUs that assist women to make the transition from welfare to pre-apprenticeship, apprenticeship, and other entry-level skilled nontraditional employment.

Applicant CBOs should document the extent of their:

(1) Established and growing employer/labor union working relationships;

(2) Proven service delivery to assist women to enter and remain in A/NTO as the major component of its employment and training activities, including outreach, orientation, mentoring, support groups, networks, workplace consultations (including troubleshooting and other work site resolution practices), employee and supervisory workshops, seminars and other workplace specific strategic planning to increase the participation of women in A/NTO; and

(3) recognized leadership credentials in the A/NTO community that also promotes leadership in social and economic change for women and their families to economic self-sufficiency, as well as mentoring relationships with other CBOs working in A/NTO.

The above discussion summarizes the general focus of SGA 00-03; however, applicants are again urged to read the SGA in its entirety to ensure that their submission is fully responsive to SGA 00-03. WANTO grant awards are competitive and based only on how responsive an applicant's proposal is to the SGA and its evaluation criteria.

This notice describes the background, the application process, statement of work, evaluation criteria, and reporting requirements for this Solicitation for Grant Applications (SGA 00-03). WB anticipates that a total amount of $927,000 will be available for the support of all Fiscal Year 2000. (See Part II. C. and Part III. A.2.f. for funding limitations per grant.)

DATES: One (1) ink-signed original, complete grant application plus five (5) copies of the Technical Proposal and two (2) copies of the Cost Proposal shall be submitted to the U.S. Department of Labor, Office of Procurement Services, Room N-5416, Reference SGA 00-03, 200 Constitution Avenue, N.W., Washington, D.C. 20210, not later than 4:45 p.m. EST, June 30, 2000. Hand-delivered applications must be received by the Office of Procurement Services by that time.

ADDRESSES: Applicants who intend to submit a proposal must register immediately with the Grant Officer in order to receive any amendment to this solicitation that is issued. Please send registration to U.S. Department of Labor, Office of Procurement Services, Attention: Grant Officer, Reference SGA 00-03, Room N-5416, 200 Constitution Avenue, NW., Washington, DC 20210. Grant applications must be mailed to U.S. Department of Labor, Office of Procurement Services, Attention: Grant Officer, Reference SGA 00-03, Room N-5416, 200 Constitution Avenue, N.W., Washington, D.C. 20210. Applicants are encouraged to verify delivery to this office directly through their delivery service and as soon as possible.

FOR FURTHER INFORMATION CONTACT: Applications will not be mailed. The Federal Register may be obtained from your nearest government office or library. Questions concerning this solicitation may be sent to Lisa Harvey at the following Internet address: lharvey@dol.gov.

Part I. Background

The Women in Apprenticeship and Nontraditional Occupations (WANTO) Act—Public Law 102-530, signed October 27, 1992—The Act has three major activities that affect this SGA:

1. Outreach to private-sector Employers and Labor Unions. DOL will promote the Act's program to employers and labor unions by informing them of the availability of technical assistance and keeping a database of employers and community-based organizations with active grants.

2. Technical Assistance. DOL will provide grants to community-based organizations to deliver technical assistance to employers and labor unions to prepare them to recruit, train, and retain women in apprenticeship and other apprenticeable nontraditional occupations.

3. Liaison Role of Department of Labor. DOL will serve as follows: (1) To act as a liaison between employers, labor unions, and the community-based organizations providing technical assistance; (2) coordinating, conducting regular assessment, and seeking input of employers and labor unions.

The Women's Bureau has been the champion of the concerns of working women since its creation by Congress in 1920. For over 70 years, improving employment opportunities and related equity issues has been the driving force of the Bureau's policies and programs. From its national office and 10 regional offices, the Bureau conducts advocacy and outreach activities across the United States. The Bureau participates in meetings with international visitors and others who are concerned with the employment and related social issues of working women. Within the Department of Labor, the WB Director serves as the policy advisor to the Secretary, ensuring that women's voices are heard and that their priorities are represented in the public policy arena.

The Bureau has a history of encouraging women to consider the wide array of apprenticeship and other nontraditional occupations (NTOs) as one way to obtain economic self-sufficiency for themselves and their families. NTOs are often thought of as the blue-collar skill occupations in highway and building trades. But NTOs can also be the lab coat and clean room occupations associated with computer-based technology innovation linked to information technology in manufacturing, utilities, telecommunications, and related business and professional services. One thing many of the skilled and high-pay jobs have in common is the lack of women employed in them.

The lack of a critical mass of women in apprenticeship and other skilled and high-pay jobs has resulted in continued workplace occupational segregation that fuels pay inequities and other artificial employment barriers to women's success in the workplace, including apprenticeship and other nontraditional occupations. For example, studies point out that once hired, women in construction face problems (sexism, racism, homophobia, inadequate toilet facilities, health and safety, isolation from other women, etc.) that erode their retention in jobs. In other nonconstruction occupations, the lack of developmental work assignments and mentors results in women being confined by “glass ceilings” and “sticky” floors. These artificial barriers are beyond the usual problems faced by all women and some men—child care, sexual harassment, pay equity, balancing work and family responsibilities. The WANTO technical assistance grant program requires CBOs to work with E/LUs to explore collaborative ways to provide increased employment opportunities for women in apprenticeship and other nontraditional occupations, in a “women-friendly” workplace environment.

The Bureau of Apprenticeship and Training co-administers WANTO with the Women's Bureau. BAT was established in 1937 as the national administrative agency in the Department of Labor to carry out the objectives of the National Apprenticeship Act (also known as the Fitzgerald Act), guided by the recommendations of the Federal Committee on Apprenticeship, now named the Federal Committee on Registered Apprenticeship (FCRA). BAT has the objective to stimulate and assist industry in the development, expansion, and improvement of apprenticeship and training programs designed to provide the skilled workers required by the American economy. BAT is the Federal program office that administers the National Registered Apprenticeship System (NRAS). One component of the System is the Federal/State partnership.

The BAT works very closely with State Apprenticeship Agencies/Councils (SAC) and the educational system to deliver support services at the national, State, and local level. When apprentices finish their training, they receive certificates of completion of apprenticeship. These are issued by the State apprenticeship agencies, or in those States not having such an agency, by BAT, in accordance with its recommended standards. BAT is committed to improving the access of women to apprenticeship training to increase their employment in jobs that have historically put men on the career ladder to successful working careers.

Definitions

Nontraditional Occupations (NTOs) are those where women account for less than 25 percent of all persons employed in a single occupational group.

Pre-Apprenticeship Programs are for women (and others) to prepare them to keep pace with occupational skills training or entry-level employment in nontraditional occupations. The curriculum includes pre-vocational instruction in identification and use of tools, blueprint reading, basic shop skills, and safety procedures, as well as math skills, and physical conditioning.

Apprenticeship is a formal paid training-work agreement where labor and management work together to promote learning on the job. (Some BAT registered apprenticeship programs are operated by employers independent of labor unions.) To support the “hands on” learning, there must be related theoretical instruction (often in classroom). After successfully completing the BAT registered program standards—usually three to five years—the apprentice is awarded a certificate of completion by either BAT or the State Apprenticeship Council (SAC).

Employers or groups of employers and unions design, organize, manage, and finance apprenticeship programs under the standards developed and registered with BAT or BAT-recognized State apprenticeship agencies. They also select apprentices who are trained to meet certain predetermined occupational standards.

Community-Based Organizations (CBOs) are as defined in Section 4(5) of the Job Training Partnership Act (29 U.S.C. 1501(5)): private nonprofit organizations which are representative of communities or significant segments of communities and which provide job training services. For this solicitation, communities or significant segments of communities are the private nonprofit organizations that have demonstrated at least five years experience in (1) The operation and delivery of employment and training related services to promote women in apprenticeship and other nontraditional occupations, (2) community recognition of leadership in advocacy and service to promote economic equity, justice, and social change for women and their families, and (3) the development of policies, programs, and technical assistance for employers and labor unions for the recruitment, selection, training, placing, retaining, and otherwise preparation of Women to enter and remain in Apprenticeship and other Nontraditional Occupations.

Please Note That Eligible Applicants Must Not Be Classified Under the IRS Tax Code as a 501(c)(4) Entity

A. Authorities

The technical assistance grants were first authorized under the Women in Apprenticeship and Nontraditional Occupations (WANTO) Act, Public Law 102-530, approved October 27, 1992.

B. Purpose of the Demonstration

The purpose of the WANTO demonstration program is to assist business to increase apprenticeship and other nontraditional employment opportunities for women. The Department will make grants to community-based organizations who will provide technical assistance to employers and labor unions to encourage and prepare them to increase the participation of women in apprenticeship and nontraditional occupations in their workplaces. Such technical assistance should result in an increase of women employed in jobs that pay a self-sufficient wage for women and their families.

Part II. Application Process

A. Eligible Grant Applicants

Please Note Well That Eligible Grant Applicants Must not Be Classified Under the IRS Tax Code as a 501(c)(4) Entity.

1. Private, Nonprofit, Community-Based Organizations that provide service delivery to assist women to enter and remain in A/NTO as the major component of its employment and training activities are the only entities eligible for grant awards. Further, the Department will give priority consideration to proposals from:

a. CBOs from one of the 32 States previously unserved by WANTO (see Appendix A);

b. CBOs who provide services that assist women with physical and/or cognitive disabilities to enter and remain in skilled high-pay jobs commensurate with their potential;

c. CBO founder/management reflects diverse race-ethnic backgrounds;

d. CBOs with programs to provide TA to E/LUs that assist women to make the transition from welfare to pre-apprenticeship, apprenticeship, and other entry-level skilled nontraditional employment.

e. CBOs with an existing FY “98 WANTO grant can apply for an additional grant if the existing grant has been performed in an exemplary way—completed two-thirds of the planned goals, particularly those for serving employers, unions, and women, reflecting the fact that the grant is running ahead of schedule. The completion should be specifically documented (names and addresses) with the FY 2000 WANTO application.

2. Applicant CBOs' proposals must document their experience and expertise in A/NTO services and TA delivery in the following areas:

a. Document established and growing employer/labor union working relationships with A/NTO community sources for exploring new working relations;

b. Document services to assist women to enter and remain in A/NTO as the major component of their employment and training activities, including outreach, orientation, mentoring, support groups, networks, workplace consultations (including troubleshooting and other work site problem resolutions and changes in employer and workplace practices), employee and supervisory workshops, seminars, and other workplace specific strategic planning to increase the participation of women in A/NTO; and

c. Document leadership in the A/NTO community to promote leadership for economic equity, justice, and social change for women and their families that also support economic self-sufficiency.

3. CBO's proposal must include a management and staff loading plan.

a. The management plan should include the CBO's organizational chart and accompanying narrative that differentiate between elements of the applicant's staff, subcontractors, or consultants, who will be retained, and full resumes of proposed grant staff.

b. The staff loading plan must identify all key tasks and the hours required to complete each task. Labor estimates for each task must be broken down by individuals assigned to the task, with subcontractors and consultants. All key tasks must be charted month-to-month to show beginning and ending time line required to perform project tasks, hours, and the person responsible for implementing and completing the task.

c. CBOs' proposals must list the name, trade, and organizational position of tradeswomen and other women in nontraditional occupations on staff or on their organization's Board of Directors. Include the dates when tradeswomen served in active paid or unpaid positions in your organization.

d. CBOs' technical proposal submissions should include a listing of all items for which grant funds will be expended. (Do not include any cost information in the technical proposal, but expenditure items Must be listed.)

e. CBOs' technical proposal submissions should include copies of the CBO's budget and major funding sources for the past three (3) years, including foundation and government grants and other types of funding.

3. Public bodies such as JTPA administrative entities, public schools, colleges, and hospitals are not eligible for WANTO grants.

B. Employers and Labor Unions are Eligible to Receive TA from CBOs

1. Private Sector Employers and Labor Unions are eligible to request and receive TA provided by CBOs with a WANTO grant. The goal of WANTO is to assist businesses to provide opportunities for women in A/NTO in the private economy.

a. Employers and Labor Unions may request that the Department of Labor match them with a CBO.

b. TA Requests from Employers and Labor Unions may be delivered with a specific applicant CBO's proposal, or independent of a specific CBO.

c. Regardless of the method, all employers and labor unions must provide the information described in Item 2. below, either to their chosen CBO or directly to the U.S. Department of Labor, Office of Procurement Services, Room N-5416, Attention: Lisa Harvey, 200 Constitution Avenue, N.W., Washington, D.C. 20210.

2. All Employers and Labor Unions requesting technical assistance must provide a written commitment for technical assistance by responding to the following:

a. A description of the need for assistance;

b. A description of the types of apprenticeable occupations or nontraditional occupations in which the employer or labor union would like to train or employ women;

c. Assurances that there are or will be suitable and appropriate employment available in the apprenticeable occupations or in the nontraditional occupations being targeted; and

d. Commitments that all reasonable efforts should be made to place women in apprenticeable occupations or nontraditional occupations as they develop skills.

C. Contents

To be considered responsive to this SGA, each application must consist of, and follow the order of, the sections listed in Part III of this solicitation. The application must also include information which the applicant believes will address the selection criteria identified in Part IV. Technical proposals shall not exceed twenty (20) single sided, double spaced, 10 to 12 pitch typed pages (not including attachments). ANY PROPOSAL THAT DOES NOT CONFORM TO THESE STANDARDS SHALL BE DEEMED NONRESPONSIVE TO THIS SGA AND WILL NOT BE EVALUATED.

1. Technical Proposal

Each proposal shall include: (1) a two-page abstract summarizing the proposal, and (2) a complete description of the CBO's program for technical assistance, including information required in Part III and IV. No cost data or reference to price shall be included in the technical proposal although the technical proposal must include the items—publications, seminars, E/LU consultations, troubleshooting, etc.—for which grant funds are to be spent.

2. Cost Proposal

The cost proposal is a physically separate document and shall not be included in the twenty (20) page limit. The cost (business) proposal must be separate from the technical proposal. (If applicants do not have the current version of the standard grant forms listed below, they must download the forms from the following OMB website address: www.whitehouse.gov/OMB/grants/index.html. The transmittal letter and the grant assurances and certification forms shall be attached to the business proposal, which shall consist of the following:

a. Standard Form 424 “Application for Federal Assistance,” signed by an official from the applicant's organization who is authorized to enter the organization into a grant agreement with the Department of Labor. The Catalog of Federal Domestic Assistance Number (CFDA) is 17.700;

b. Standard Budget Form 424A “Budget Information Form,”; and

c. Budget Narrative; provide a narrative explanation of the budget which describes all proposed costs and indicates how they are related to the operation of the project. Provide this information separately for the amount of requested Federal funding and the amount of proposed Non-Federal contribution. In an application which proposes to fund staff positions, the budget narrative must provide information which describes the number of proposed positions by title and by the amount of staff time and salary charged to Federal and Non-Federal funding resources. The Budget Narrative provides the detailed description of the costs reflected on the SF 424A.

D. Funding Levels

The Department expects to have $927,000 to be disbursed through WANTO grants. The Department expects to make up to fifteen (15) awards to community-based organizations. The Women's Bureau expects awards to range from approximately $50,000 to $75,000 (see also Part III. A.2.f.), depending upon the scope of the technical assistance and the number of employer/labor union written commitments included with the proposal—between ten (10) and twenty (20)—and the design, size, and scope of the technical assistance proposed for this demonstration and reflected in the E/LU technical assistance requests. Written commitments for technical assistance may also include working with E/LUs to move women employed in NTO related entry level employment to registered apprenticeship programs and higher level skilled NTO jobs. The proposal should include the names and employment of women in the entry level work and the proposed upgrade for her.

E. Length of Grant and Grant Awards

The initial performance period for the grants awarded under this SGA shall be for twelve (12) months with one (1) option to extend for up to three months as a no-cost extension to complete final reports. Each applicant shall reflect in their application the intention to begin operation no later than September 2000.

F. Submission

One (1) ink-signed original, complete grant application (plus five (5) copies of the Technical Proposal and two (2) copies of the Cost Proposal must be submitted to the U.S. Department of Labor, Office of Procurement Services, Room N-5416, 200 Constitution Avenue, NW, Washington, DC 20210, not later than 4:45 p.m. EST, June 30, 2000. Hand delivered applications must be received by the Office of Procurement Services by that time. Any application received at the Office of Procurement Services after 4:45 p.m. EST will not be considered unless it is received before an award is made and:

1. It was sent by registered or certified mail not later than the fifth calendar day before June 30, 2000 (not later than June 25, 2000);

2. It is determined by the Government that the late receipt was due solely to mishandling by the Government after receipt at the U.S. Department of Labor at the above address; or

3. It was sent by U.S. Postal Service Express Mail Next Day Service-Post Office to Addressee, not later than 5:00 p.m. EST at the place of mailing two working days, excluding weekends and Federal holidays, prior to June 30, 2000 (not later than 5:00 p.m. EST June 28, 2000).

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants shall request that the postal clerk place a legible hand cancellation bull's-eye postmark on both the receipt and the wrapper or envelope.

The only acceptable evidence to establish the date of mailing of a late application sent by U.S. Postal Service Mail Next Day Service-Post Office to Addressee is the date entered by the post office receiving clerk on the “Express Mail Next Day Service-Post Office to Addressee” label and the postmark on the envelope or wrapper and on the original receipt from the U.S. Postal Service. “Postmark” has the same meaning as defined above. Therefore, applicants shall request that the postal clerk place a legible hand cancellation bull's-eye postmark on both the receipt and the envelope or wrapper.

The only acceptable evidence to establish the time of receipt at the U.S. Department of Labor is the date/time stamp of the Office of Procurement Services on the application wrapper or other documentary evidence of receipt maintained by that office. Applications sent by E-mail, telegram, or facsimile (Fax) will not be accepted.

Part III. The Statement of Work—Key Features

A. Technical Assistance

1. CBOs are to provide technical assistance (TA) that may include a broad range of activities to prepare employers and labor unions (E/LUs) to provide opportunities for women in apprenticeship and other nontraditional occupations (A/NTO). CBOs should encourage E/LUs to work with them to assess their workplaces and develop strategic plans for changes in the workplace and in work practices that support women. Requests may include linkages of pre-apprenticeship programs to a commitment for employment and/or sponsored apprenticeship training. Such TA should result in jobs that pay a living wage that will support women and their families. Support services are of major importance to sustaining women to enter and complete training and entry employment. Child care, transportation, and related transitional costs—union fees, tools, and uniforms—are the support services most often cited as necessary for women to enter employment and/or to complete training, including registered apprenticeship.

2. Applicant CBOs should respond with:

a. A program designed to build on established working relationships with employers and labor unions and to develop new working relationships to provide TA to ten (10) or more private sector E/LUs. Proposal should include targeted E/LUs, as well as E/LUs specifically requesting TA.

b. A program designed to build on established working relationships with employers and labor unions to move working women from NTO related entry level employment into registered apprenticeship or other higher skilled NTO occupations, including those requiring technology skills. Proposals should include the names of the targeted firms, women, and employment upgrades.

c. CBO proposal should include E/LUs selected from the following five (5) industry groups and registered apprenticeships—manufacturing, information technology, medical technology, utilities, telecommunications, and registered apprenticeship and on-the-job training programs in highway and the building trades construction industries.

d. The Department would consider:

(1) proposals from established CBOs that want to mentor less experienced CBOs in unserved States to build the organizational and technical assistance capacity of the less experienced CBOs.

e. (2) Joint proposals of several CBOs who have bundled their strengthens together to form one grant application. The proposal will provide TA in unserved States that propose to build their regional capacity to provide TA to employers and labor unions to promote women in A/NTO.

f. The final amount of each grant, $50,000 to $75,000, will depend upon the quality of the program—depth and scope of services, as well as the number of those served.

B. Support Services

1. CBO proposal should include a plan for support services for women when the TA results in women moving into apprenticeship or other NTO employment and training.

a. Support service plans should include cooperative E/LU programs along with services available from the workplace and/or employee's community.

b. Support services strategic planning for support services should include, at least, child care, transportation, and transitional costs.

D. Leverage of WANTO Funding and Continuance

1. The proposed project submissions should include any leverage or co-funding anticipated by this submission.

2. The proposed project submission should include any activities to encourage and promote the continuation or expansion of grant activities beyond the grant's period of program performance.

Part IV. Evaluation Criteria and Selection

Applicants are advised that selection for a grant award is to be made after careful evaluation of technical applications by a panel. Each panelist will evaluate applications against the various criteria on the basis of 100 points. The scores will then serve as the primary basis to select applications for a potential award. Clarification may be requested of grant applicants if the situation so warrants it. Please see Part III, Sections A and B, for additional information on the elements against which proposals will be reviewed.

1. Technical Evaluation Criteria

| Points
a. Capabilities and Qualifications of CBO and Staff (A/NTO experience, education, and leadership in the community to foster social and/or economic justice for equity for women and their families moving to self-sufficiency); programs for women with disabilities, diversity, inclusion of and management and staffing plans | 50
b. Established Program and E/LU Linkages; the commitment and/or potential for ten (10) or more new working relationships with E/LUs; working with employed women to move into registered apprenticeship or higher skilled NTO | 20
c. Quality and Scope of WANTO Project (as discussed/described throughout SGA 00-03, including workplace assessment and technical assistance strategies for E/LU changes in the workplace culture and work practices to promote the increase in women in apprenticeship and nontraditional occupations; upgrading working women NTOs, focus industries, mentor, or joint CBOs, proposed A/NTO outcomes, leverage and continuance TA) | 30

2. Cost Criteria

Proposals will be scored, based on their costs in relation to other proposals submitted in response to this SGA.

3. Total Score

Technical quality of proposals will be weighted three (3) times the estimated price in ranking proposals, for purposes of selections for awards. Proposals received will be evaluated by a review panel based on the criteria immediately above, in Technical Evaluation Criteria 1 and 2. The panel's recommendations will be advisory, and final awards will be made based on the best interests of the Government, including but not limited to such factors as technical quality, geographic balance, occupational/industrial impact, and diversity in service providers.

The Department wishes to make it clear that it is not simply the best written proposals that will be chosen, but rather those which demonstrate the greatest experience and commitment to assisting employers and labor organizations to successfully develop successful strategies to increase the participation of women in higher-paying apprenticeship and nontraditional occupations and to expand the employment and self-sufficiency options of women returning to work after welfare and other work and family disruptions. In addition, the Department considers geographic and race-ethnic diversity in the array of award-winning proposals important considerations in making the final awards.

The submission of the same proposal from any prior year WANTO competition does not guarantee an award under this solicitation. Although the Government reserves the right to award on the basis of the initial proposal submission, the Government may establish a competitive range or technically acceptable range based upon proposal evaluation, for the purpose of selecting qualified applicants. The panel's conclusions are advisory in nature and not binding on the Grant Officer. The Government reserves the right to ask for clarification or hold discussions, but is not obligated to do so. The Grant Officer's determination for award under SGA 00-03 is the final agency action.

Part V

A. Deliverables

(This section is provided only so that grantees may more accurately estimate the staffing budgetary requirements when preparing their proposal. Applicants are to exclude from their cost proposal the cost of any requested travel to Washington, D.C.)

1. No later than eight (8) weeks after an award, the grantees and partners shall meet with the Women's Bureau and the Bureau of Apprenticeship and Training at the Post-Award Conference to discuss the demonstration project and related components and technical assistance activities, time lines, technical assistance outcomes, assessment for comment, and final approval. The grantees and partners and the Department will discuss and make decisions on the following program activities:

a. The proposed technical assistance commitments for employment, registered apprenticeship, and related skilled nontraditional occupation activities and responsibilities; the number of targeted partnerships with employers and labor unions and the resultant women to be served.

b. The methodology the proposed partnership will use to support/change management and employee attitudes to promote female workers in nontraditional occupations.

c. The types of systemic change anticipated by technical assistance strategies anticipated to be incorporated into ongoing employer recruitment, hiring, training, and promotion of women in apprenticeship and apprenticeable nontraditional occupations.

d. The occupational, industrial, and geographical impact anticipated.

e. The supportive services to be provided to employers and women after successful placement into registered apprenticeship, or other skilled nontraditional occupations.

f. The plan for the development and maintenance of a relationship with the State level of the Federal Bureau of Apprenticeship and Training and the State Apprenticeship Council.

The Women's Bureau and the Bureau of Apprenticeship and Training will provide further input orally and in writing, if necessary, within ten (10) working days after the Post-Award Conference.

1. No later than ten (10) weeks after an award, the grantees and the Women's Bureau will confirm the “plan of action” and detailed time line for program implementation.

2. No later than twelve (12) weeks after an award, the grantee(s) shall have begun the provision of technical assistance to employers and labor unions to recruit, select, train, place, retain, and other areas of preparation to promote the increase of women in apprenticeable occupations and other nontraditional training for women, characterized by employment growth and above average earnings.

3. No later than sixteen (16) weeks after an award, the first quarterly progress report of work done under this grant will be due. Thereafter, quarterly reports will be due twenty (20) working days after the end of each of the remaining quarters.

Quarterly progress reports must include:

a. A description of overall progress on work performed during the reporting period—(a) the number of employers and labor unions provided onsite, off-site (conferences, workshops, seminars, training, etc., (b) number of women trained (on and off the work site), placed in apprenticeship or other nontraditional employment. Describe: (1) Any linkages of pre-apprenticeship (on and off a work site) with sponsored apprenticeship: number of women affected or participating in programs; include name and address of workplace/company and person responsible for the operation, (2) number of employers and labor unions receiving technical assistance—name, address, size of the workplace, including proportion of women, include brief profiles of employers and labor organizations, (3) describe any systemic workplace and policy changes—actual or in process, including the hiring and promotion of women already in the workplace, career ladders, or other training activities, (4) public presentations, (5) media articles or appearances, (6) publications disseminated, and (7) publications developed.

b. An indication of any current problems which may impede the performance of the grant and the proposed corrective action.

c. A discussion of work to be performed during the next reporting period.

Between scheduled reporting dates the grantee(s) also shall immediately inform the Grant Officer's Technical Representative (GOTR) of significant developments affecting their ability to accomplish the work.

5. No later than sixty-four (64) weeks after an award, the grantee(s) shall submit three (3) copies of the draft Final Report, an integrated draft analysis of the process and results of the technical assistance activities during the year. The Women's Bureau and the Bureau of Apprenticeship and Training will provide written comments on the draft Report within twenty (20) working days if substantive problems are identified. The grantee's response to these comments shall be incorporated into the Final Report.

6. The Final Report shall cover findings, final performance data, outcome results and assessment, and employer or labor organization plans for follow-up of participants. The Final Report shall provide all information to replicate the project including copies of curriculums, technical assistance materials developed for the project and technical assistance—videos, posters, notices, etc.—as well as any plans for replication and dissemination of information. An Executive Summary of the findings and recommendations shall be included in the Final Report, separately, or combined with the Final Report—at the opening. No later than sixty-four (64) weeks after an award, the grantee(s) shall (1) submit one (1) diskette (IBM compatible, WordPerfect 6.1), one (1) camera-ready copy of the Final Report, and five (5) copies of the camera-ready Final Report, bound in a professional manner, and not a collection of loose leaf sheets, and (2) computer-based, electronic files for each of the other products—e.g., manual(s), curriculums, “how-to-do-it” handbooks, videos, etc.—paid for with grant funds, along with five (5) copies of the final camera-ready products.

In addition to the grant's Final Report, proposed project submissions should include plans for a “how-to-do-it” project replication manual, including awareness/outreach material, technical assistance and curriculum manual(s) and all other materials developed as a result of the grant activities. All grant materials should be submitted with “hard copy” and electronic (computer-based) copy.

B. Administrative Provisions

The grant awarded under this SGA shall be subject to the following administrative standards and provisions:

29 CFR Part 97—Uniform Administrative Requirements for Grants and Cooperative Agreements to State and Local Governments.

29 CFR Part 96—Federal Standards for Audit of Federally Funded Grants, Contracts and Agreements.

29 CFR Part 95—Uniform Administrative Requirements for Grants and Cooperative Agreements with Institutions of Higher Education, etc.

C. Certifications and Assurances

If the applicant is awarded a grant, they are required to operate the program in accordance with the following Certifications and Assurances. An original signed and dated signature page providing the following Certifications and Assurances must accompany the Cost Proposal.

Certifications and Assurances

Assurances and Certifications Signature Page

The Department of Labor will not award a grant or agreement where the grantee/recipient has failed to accept the ASSURANCES AND CERTIFICATIONS contained in this section. By signing and returning this signature page, the grantee/recipient is providing the certifications set forth below:

A. Certification Regarding Lobbying, Debarment, Suspension, Other Responsibility Matters—Primary Covered Transactions and Certifications Regarding Drug-Free/Tobacco-Free Workplace,

B. Certification of Release of Information

C. Assurances—Non-Construction Programs

D. Applicant is not a 501(c)(4) organization

APPLICANT NAME and LEGAL ADDRESS:

If there is any reason why one of the assurances or certifications listed cannot be signed, please explain. Applicant need only submit and return this signature page with the grant application. All other instruction shall be kept on file by the applicant.

SIGNATURE OF AUTHORIZED CERTIFYING OFFICIAL TITLE

APPLICANT ORGANIZATION DATE SUBMITTED

Please Note: This signature page and any pertinent attachments which may be required by these assurances and certifications shall be attached to the applicant's Cost Proposal.

D. Allowable Costs

Determinations of allowable costs shall be made in accordance with the following applicable Federal cost principles:

a. State and Local Government—OMB Circular A-87

b. Educational Institutions—OMB Circular A-21

c. Nonprofit Organizations—OMB Circular A-122

d. Profit-making Commercial Firms—48 CFR Part 31

Signed at Washington, D.C. on April 21, 2000.
Lawrence J. Kuss,
Grant Officer.

Appendix A—States That Have No WANTO Grantees.

Alabama, Alaska, Arkansas, Arizona, Connecticut, Delaware, Idaho, Iowa, Indiana, Kansas, Kentucky, Louisiana, Maryland, Michigan, Mississippi, Missouri, Nevada, New Hampshire, New Jersey, New Mexico, North Carolina, North Dakota, Ohio, Oklahoma, Rhode Island, South Carolina, South Dakota, Utah, Virginia, West Virginia, Wisconsin, Wyoming.

[FR Doc. 00-10585 Filed 4-27-00; 8:45 am]

BILLING CODE 4510-23-P